DEPARTMENT OF TRANSPORTATION

Federal Aviation Administration

Agency Information Collection Activities: Requests for Comments; Clearance of Renewed Approval of Information Collection: NOTAM Realignment User Survey

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on September 9, 2010, vol. 75, no. 174, pages 54942-54943. In accordance with FAA Order JO 1030.4, ATO SysOps Services SMS Oversight, the FAA ATO System Operations Management, Safety Assurance Group (SAG) is conducting an assessment of the Notice to Airmen (NOTAM) Realignment Phase 1 (NRP-1) process to determine if unacceptable hazards exist within the National Airspace System (NAS). Essential to the assessment is a survey of airline and corporate pilots and dispatchers as well as airport operators and general aviation pilots.

DATES: Written comments should be submitted by March 21, 2011.

FOR FURTHER INFORMATION CONTACT: Carla Scott on (202) 267-9895, or by e-mail at: Carla.Scott@faa.gov.

SUPPLEMENTARY INFORMATION: OMB Control Number: 2120-XXXX.

Title: NOTAM Realignment User Survey.

Form Numbers: There are no FAA forms associated with this collection.

Type of Review: Approval of a new information collection.

Background: Results of the SOSM SAG NOTAM Realignment Phase 1 (NRP-1) Assessment will be used to establish the status of identified hazards and ensure no new hazards have been introduced into the NAS. In addition to on-site visits, the SOSM SAG audit team has prepared three surveys. This submission only concerns an external survey directed to users of the National Airspace System (NAS).

Respondents: 150,607 users of the National Airspace System.

Frequency: This information is collected on occasion.

Estimated Average Burden per Response: 7 minutes.

Estimated Total Annual Burden: 881 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202)395-6974, or mailed to the Office of Information and Regulatory Affairs, Office of Management and Budget, Docket Library, Room 10102, 725 17th Street, NW., Washington, DC 20503.

Public Comments Invited: You are asked to comment on any aspect of this information collection, including: (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on February 11, 2011.
Carla Scott,
FAA Information Collection Clearance Officer, IT Enterprises Business Services Division, AES-200.

[FR Doc. 2011-3555 Filed 2-16-11; 8:45 am]

BILLING CODE 4910-13-P